INTERNATIONAL TRADE COMMISSION

[Investigation No. TA-201-75 (Monitoring)]

Crystalline Silicon Photovoltaic Cells, Whether or Not Partially or Fully Assembled Into Other Products; Monitoring Developments in the Domestic Industry; Amendment

AGENCY: United States International Trade Commission.

ACTION: Notice; amendment.

SUMMARY: The Commission published a noticed in the Federal Register on August 1, 2019, concerning the institution and scheduling of investigation no. TA-201-75 (Monitoring) pursuant to section 204(a)(2) of the Trade Act of 1974 on its monitoring of developments in the domestic industry following the President's decision to impose a safeguard measure on imports of certain crystalline silicon photovoltaic (“CSPV”) cells, whether or not partially or fully assembled into other products (including, but not limited to, modules, laminates, panels, and building-integrated materials)(“CSPV products”), as described in Proclamation 9693 of January 23, 2018. 84 FR 37674. This amended notice provides for limits on page lengths for posthearing briefs.

DATES: December 9, 2019.

FOR FURTHER INFORMATION CONTACT: Mary Messer (202-205-3193), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Amendment.—Pursuant to 19 CFR 206.3(b) and 19 CFR 206.52, in the Federal Register of August 1, 2019, in FR Doc. 2019-16363, on page 37675, in the third column, line 54, following the sentence ending with “December 12, 2019,” add the following sentences: No posthearing brief shall exceed fifteen (15) pages of textual material, double-spaced and single sided, when printed out on pages measuring 8.5 x 11 inches. Persons are permitted to file answers to questions or requests made by the Commission at the hearing, which are separate from the 15-page limit for posthearing briefs.

By order of the Commission.
Issued: December 9, 2019.
Lisa Barton,
Secretary to the Commission.

[FR Doc. 2019-26774 Filed 12-11-19; 8:45 am]

BILLING CODE 7020-02-P